INTERNATIONAL TRADE COMMISSION

[Investigation No. 337-TA-1129]

Certain Lithography Machines and Systems and Components Thereof (II); Commission Determination Not To Review an Initial Determination Terminating the Investigation Based on Settlement; Termination of the Investigation

AGENCY: U.S. International Trade Commission.

ACTION: Notice.

SUMMARY: Notice is hereby given that the U.S. International Trade Commission has determined not to review an initial determination (“ID”) (Order No. 17) issued by the presiding administrative law judge (“ALJ”) that terminates the above-captioned investigation based on settlement. The investigation is terminated.

FOR FURTHER INFORMATION CONTACT: Robert Needham, Office of the General Counsel, U.S. International Trade Commission, 500 E Street SW, Washington, DC 20436, telephone (202) 708-5468. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 21, 2018, based on a complaint filed by Carl Zeiss SMT GmbH of Oberkochen, Germany (“Zeiss”). 83 FR 42316-17. The complaint, as supplemented, alleges violations of section 337 of the Tariff Act of 1930, as amended, 19 U.S.C. 1337, in the importation into the United States, the sale for importation, and the sale within the United States after importation of certain lithography machines and systems and components thereof that infringe certain claims of U.S. Patent Nos. 7,929,115, 8,441,613, and 9,052,609. Id. The Commission's notice of investigation named as respondents Nikon Corporation of Tokyo, Japan; Nikon Research Corporation of America of Belmont, California; and Nikon Precision Inc. of Belmont, California (collectively, “Nikon”). Id. at 42317. The Office of Unfair Import Investigations is not participating in this investigation. Id.

On February 22, 2019, Zeiss and Nikon filed a joint motion to terminate the investigation based on a settlement agreement. The parties supplied the settlement agreement and indicated that there are no other agreements related to the subject matter of the investigation.

On March 18, 2019, the ALJ granted the motion pursuant to Commission Rule 210.21(b) (19 CFR 210.21(b)). The ALJ found that the motion complied with Rule 210.21(b) and that there is no evidence that the settlement has any adverse effect on the public interest. No petitions for review of the ID were received.

The Commission has determined not to review the subject ID. The investigation is hereby terminated.

The authority for the Commission's determination is contained in section 337 of the Tariff Act of 1930, as amended (19 U.S.C. 1337), and in part 210 of the Commission's Rules of Practice and Procedure (19 CFR part 210).

By order of the Commission.
Issued: April 5, 2019.
Lisa Barton,
Secretary to the Commission.

[FR Doc. 2019-07145 Filed 4-10-19; 8:45 am]

BILLING CODE 7020-02-P